DEPARTMENT OF JUSTICE

[AAG/A Order No. 010-2004]

Privacy Act of 1974, Systems of Records

The Department of Justice (DOJ) is modifying notices for two Privacy Act systems of records, to make minor address changes in the notices. The first system is entitled “Department of Justice Grievance Records, DOJ-008,” last published in the Federal Register October 29, 2003 (68 FR 61696). The second system is entitled “Leave Sharing Systems, DOJ-010,” last published in the Federal Register on April 26, 2004 (69 FR 22557).

In the “Department of Justice Grievance Records, DOJ-008”, in the section named “System Manager(s) and Address,” the addresses are modified for the United States Marshals Service and for the Bureau of Alcohol, Tobacco, Firearms and Explosives. In the “Leave Sharing Systems, DOJ-010,” in the section named “System Manager(s) and Address,” the address is modified for the Bureau of Alcohol, Tobacco, Firearms and Explosives.

These minor changes do not require notification to the Office of Management and Budget and Congress. The change will be effective on August 4, 2004. Questions regarding the modifications may be directed to Mary Cahill, Management Analyst, Management and Planning Staff, Justice Management Division, Department of Justice, Washington, DC 20530.

The modifications to the system descriptions are set forth below.

Dated: July 27, 2004.
Paul R. Corts,
Assistant Attorney General for Administration.

DEPARTMENT OF JUSTICE

SYSTEM NAME

Department of Justice Grievance Records, Justice/DOJ-008.

* * * * *

SYSTEM MANAGER(S) AND ADDRESS

* * * * *

[Delete current entries at (m) and (o) and substitute the following.]

(m) United States Marshals Service Headquarters, Assistant Director for Human Resources, Washington, DC 20530-1000.

* * * * *

(o) Bureau of Alcohol, Tobacco, Firearms and Explosives, Personnel Division, Employee and Labor Relations Team, 650 Massachusetts Ave., NW., Room 4300, Washington, DC 20226 * * *

* * * * *

SYSTEM NAME

Leave Sharing Systems, JUSTICE/DOJ-010.

* * * * *

SYSTEM MANAGER(S) AND ADDRESS

* * * * *

[Delete current entry for Bureau of Alcohol, Tobacco, Firearms and Explosives, and substitute the following.]

Bureau of Alcohol, Tobacco, Firearms and Explosives, Personnel Division, Employee Services Team, Room 4150, Washington, DC 20226 * * *

* * * * *

[FR Doc. 04-17798 Filed 8-3-04; 8:45 am]

BILLING CODE 4410-FB-P